FEDERAL COMMUNICATIONS COMMISSION

47 CFR Part 73

[DA 03-272; MM Docket No. 01-273, RM-10284; MM Docket No. 02-43, RM-10384; MM Docket No. 02-107, RM-10417; MM Docket No. 02-168, RM-10480; MM Docket No. 02-169, RM-10481; MM Docket No. 02-170, RM-10482; MM Docket No. 02-172, RM-10484; MM Docket No. 02-173, RM-10485; MM Docket No. 02-175, RM-10487; MM Docket No. 02-176, RM-10488; MM Docket No. 02-291, RM-10528; MM Docket No. 02-292, RM-10540; and MM Docket No. 02-293, RM-10541]

Radio Broadcasting Services; Alpena, MI; Arthur, NE; Milan, NM; Channing, TX; Eldorado, TX; Escobares, TX; Matador, TX; McLean, TX; Memphis, TX; Ozona, TX; Rotan, TX, Wellington, TX.; Wheeler, TX

AGENCY: Federal Communications Commission.

ACTION: Final rule.

SUMMARY: This document grants 13 proposals that allot new channels to Alpena, Michigan; Arthur, Nebraska; Milan, New Mexico; Channing, Texas, Eldorado, Texas; Escobares, Texas; Matador, Texas; McLean, Texas; Memphis, Texas; Ozona, Texas; Rotan, Texas; Wellington, Texas; and Wheeler, Texas. See Supplementary Information.

DATES: Effective March 17, 2003. The window period for filing applications for these allotments will not be opened at this time. Instead, the issue of opening these allotments for auction will be addressed by the Commission in a subsequent order.

FOR FURTHER INFORMATION CONTACT: Sharon P. McDonald, Media Bureau, (202) 418-2180.

SUPPLEMENTARY INFORMATION: This is a synopsis of the Commission's Report and Order, MM Docket No. 01-273, MM Docket No. 02-43, MB Docket No. 02-107; MB Docket No. 02-168, MB Docket 02-169, MB Docket No. 02-170, MB Docket No. 02-172; MB Docket No. 02-173, MM Docket No. 02-175, MM Docket No. 02-176, MM Docket No. 02-291; MM Docket No. 02-292, and MM Docket No. 02-293, adopted January 29, 2003, and released January 31, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554.

The Commission, at the request of Linda Crawford, allots Channel 258C1 at Eldorado, Texas, as the community's third local FM transmission service. See 66 FR 52734, October 17, 2001. Channel 258C1 can be allotted at Eldorado in compliance with the Commission's minimum distance separation requirements with a site restriction 7.4 kilometers (4.8 miles) south to avoid a short-spacing to the licensed site of Station KYZZ(FM), Channel 261C2, San Angel, Texas. The coordinates for Channel 258C1 at Eldorado are 30-47-49 North Latitude and 100-37-29 West Longitude. Although Mexican concurrence has been requested for Channel 258C1 at Eldorado, notification has not been received. If a construction permit is granted prior to the receipt of formal concurrence in the allotment by the Mexican government, the construction permit will include the following condition: “Operation with the facilities specified for Eldorado herein is subject to modification, suspension or, termination without right to hearing, if found by the Commission to be necessary in order to conform to the 1992 USA-Mexico FM Broadcast Agreement.”

The Commission, at the request of Don Davis, allots Channel 270A at Milan, New Mexico, as the community's second local FM transmission service. See 67 FR 11970, March 18, 2002. Channel 270A can be allotted at Milan in compliance with the Commission's minimum distance separation requirements a city reference coordinates. The coordinates for Channel 270A at Milan are 35-10-11 North Latitude and 107-53-24 West Longitude.

The Commission, at the request of Northern Paul Bunyan Radio Company, allots Channel 289A at Alpena, Michigan as the community's third local FM transmission service. See 67 FR 11970, March 18, 2002. Channel 289A can be allotted to Alpena in compliance with the Commission's minimum distance separation requirements with a site restriction of 6.4 kilometers (4.0 miles) northeast to avoid short-spacings to the licensed site of Station WKHQ-FM, Channel 290C1, Charlevoix, Michigan, and to the proposed site for Channel 292C2 at Rogers City, Michigan. The coordinates for Channel 289A at Alpena are 45-05-30 North Latitude and 83-21-48 West Longitude. Although Canadian concurrence has been requested for Channel 289A at Alpena, notification has not been received. If a construction permit is granted prior to the receipt of formal concurrence in the allotment by the Canadian government, the construction permit will include the following condition: “Operation with the facilities specified for Alpena herein is subject to modification, suspension or, termination without right to hearing, if found by the Commission to be necessary in order to conform to the USA-Canadian FM Broadcast Agreement.”

The Commission, at the request of Linda Crawford, allots Channel 284A at Channing, Texas, as the community's first local aural transmission service. See 67 FR 47502, July 19, 2002. Channel 284A can be allotted to Channing in compliance with the Commission's minimum distance separation requirements with a site restriction of 38.0 kilometers (23.6 miles) northwest to avoid a short-spacing to the licensed site of Station KQFX(FM), Channel 282C1, Borger, Texas, and Station KLGD(FM), Channel 285C1, Tulia, Texas. The coordinates for Channel 284A at Channing are 35-58-15 North Latitude and 102-33-43 West Longitude.

The Commission, at the request of Charles Crawford, allots Channel 284A at Escobares, Texas, as the community's first local aural transmission service. See 67 FR 47502, July 19, 2002. Channel 284A can be allotted to Escobares in compliance with the Commission's minimum distance separation requirements 6.8 kilometers (4.2 miles) northeast to avoid a short-spacing to the licensed site of Station XHMF-FM, Channel 283C, Monterrey, Mexico. The coordinates for Channel 284A at Escobares are 26-26-29 North Latitude and 98-54-14 West Longitude. Although, Mexican concurrence has been requested for Channel 284A at Escobares, notification has not been received. If a construction permit is granted prior to the receipt of formal concurrence in the allotment by the Mexican government, the construction permit will include the following condition: “Operation with the facilities specified for Escobares herein is subject to modification, suspension or, termination without right to hearing, if found by the Commission to be necessary in order to conform to the 1992 USA-Mexico FM Broadcast Agreement.” 1

The Commission, at the request of Linda Crawford, allots Channel 275C3 at Ozona, Texas, as the community's third local FM transmission service. See 67 FR 47502, July 19, 2002. Channel 275C3 can be allotted at Ozona in compliance with the Commission's minimum distance separation requirements at city reference coordinates. The coordinates for Channel 275C3 at Ozona are 30-42-30 North Latitude and 101-12-06 West Longitude. Although Mexican concurrence has been requested for Channel 275C3 at Ozona, notification has not been received. If a construction permit is granted prior to the receipt of formal concurrence in the allotment by the Mexican government, the construction permit will include the following condition: “Operation with the facilities specified for Ozona herein is subject to modification, suspension or, termination without right to hearing, if found by the Commission to be necessary in order to conform to the 1992 USA-Mexico FM Broadcast Agreement.”

The Commission, at the request of Linda Crawford, allots Channel 290A at Rotan, Texas, as the community's first local aural transmission service. See 67 FR 47502 (July 19, 2002. Channel 290A can be allotted at Rotan in compliance with the Commission's minimum distance separation requirements at city reference coordinates. The coordinates for Channel at Rotan are 32-51-07 North Latitude and 100-27-55 West Longitude.

The Commission, at the request of Maurice Salsa, allots Channel 248A at Wellington, Texas, as the community's second local FM transmission service. See 67 FR 47502, July 19, 2002. Channel 248A can be allotted at Wellington in compliance with the Commission's minimum distance separation requirements with a site restriction of 14.0 kilometers (8.7 miles) northwest to avoid a short-spacing to the allotment site for Channel 248C1, Archer City, Texas, and to the construction permit site for Station KWEY-FM, Channel 247C1, Weatherford, Oklahoma. The coordinates for Channel 248A at Wellington are 34-56-51 North Latitude and 100-19-10 West Longitude.

The Commission, at the request of Katherine Pyeatt, we are allotting Channel 292A at Memphis, Texas, as the community's second local FM transmission service. See 67 FR 47502, July 19, 2002. Channel 292A can be allotted at Memphis in compliance with the Commission's minimum distance separation requirements at city reference coordinates. The coordinates for Channel 292A at Memphis are 34-43-29 North Latitude and 100-32-01 West Longitude.

The Commission, at the request of Maurice Salsa, allots Channel 227C3 at Matador, Texas, as the community's second local FM transmission service. See 67 FR 47502, July 19, 2002. Channel 227C3 can be allotted at Matador in compliance with the Commission's minimum distance separation requirements with a site restriction of 19.2 kilometers (11.9 miles) northeast to avoid a short-spacing to the licensed site of Station KRKZ(FM), Channel 228C2, Altus, Oklahoma, and to the vacant allotment site for Channel 226C2 at Aspermont, Texas. The coordinates for Channel 227C3 at Matador are 34-10-06 North Latitude and 100-43-57 West Longitude.

The Commission, at the request of Arthur Radio Broadcasting, allots Channel 300C1 at Arthur, Nebraska, as the community's first local aural transmission service. See 67 FR 47502, July 19, 2002 Channel 300C1 can be allotted at Arthur in compliance with the Commission's minimum distance separation requirements with a site restriction of 8.0 kilometers (5.0 miles) northwest to avoid a short-spacing to the vacant allotment site for Channel 297C1 at Hershey, Nebraska. The coordinates for Channel 300C1 at Arthur are 41-37-10 North Latitude and 101-45-57 West Longitude.

The Commission, at the request of Robert Fabian, allots Channel 267C3 at McLean, Texas, as the community's first local aural transmission service. See 67 FR 47502, July 19, 2002. Channel 300C1 can be allotted at McLean compliance with the Commission's minimum distance separation requirements with a site restriction of 21.4 kilometers (13.3 miles) southwest to avoid short-spacings to the licensed sites of Station KWOX (FM), Channel 266C, Woodward, Oklahoma, and Station KLAW (FM), Channel 267C1, Lawton, Oklahoma. The coordinates for Channel 267C3 at McLean are 35-05-01 North Latitude and 100-44-58 West Longitude.

The Commission, at the request of Maurice Salsa, allots Channel 280C2 at Wheeler, Texas, as the community's first local aural transmission service. See 67 FR 47502, July 19, 2002. Channel 280C2 can be allotted at Wheeler in compliance with the Commission's minimum distance separation requirements with a site restriction of 6.7 kilometers (4.1 miles) northeast to avoid short-spacings to the licensed sites of Station KKYN-FM, Channel 280C2, Plainview, Texas, and Station KHYM(FM), Channel 280C1, Copeland, Kansas. The coordinates for Channel 280C2 at Wheeler are 35-28-55 North Latitude and 100-12-56 West Longitude.

List of Subjects in 47 CFR Part 73

Radio, Radio broadcasting.

PART 73—RADIO BROADCAST SERVICES

1. The authority citation for Part 73 continues to read as follows:

Authority: 47 U.S.C. 154, 303, 334 and 336.

§ 73.202 [Amended]

2. Section 73.202(b), the Table of FM Allotments under Michigan, is amended by adding Channel 289A at Alpena.

3. Section 73.202(b), the Table of FM Allotments under Nebraska, is amended by adding Arthur, Channel 300C1.

4. Section 73.202(b), the Table of FM Allotments under New Mexico, is amended by adding Channel 270A at Milan.

5. Section 73.202(b), the Table of FM Allotments under Texas, is amended by adding Channing, Channel 284A; by adding Channel 258C1 at Eldorado; by adding Escobares, Channel 284A; by adding Channel 227C3 at Matador; by adding McLean, Channel 267C3; by adding Channel 292A at Memphis; by adding Channel 275C3 at Ozona; by adding Rotan, Channel 290A; by adding Channel 248A at Wellington; and by adding Wheeler, Channel 280C2.

Federal Communications Commission.
John A. Karousos,
Assistant Chief, Audio Division, Media Bureau.

[FR Doc. 03-3954 Filed 2-18-03; 8:45 am]

BILLING CODE 6712-01-P